DEPARTMENT OF ENERGY

Federal Energy Regulatory Commission

Combined Notice of Filings #1

Take notice that the Commission received the following electric corporate filings:

Docket Numbers: EC16-141-000.

Applicants: Elevation Solar C LLC.

Description: Application for Authorization under Section 203 of the Federal Power Act, Request for Expedited Consideration and Confidential Treatment of Elevation Solar C LLC.

Filed Date: 7/7/16.

Accession Number: 20160707-5076.

Comments Due: 5 p.m. ET 7/28/16.

Docket Numbers: EC16-142-000.

Applicants: Western Antelope Blue Sky Ranch B LLC.

Description: Application for Authorization under Section 203 of the Federal Power Act, Request for Expedited Consideration and Confidential Treatment of Western Antelope Blue Sky Ranch B LLC.

Filed Date: 7/7/16.

Accession Number: 20160707-5082.

Comments Due: 5 p.m. ET 7/28/16.

Docket Numbers: EC16-143-000.

Applicants: GE Albany Global Holdings BV, Solar Partners I, LLC, Solar Partners II, LLC, Solar Partners VIII, LLC.

Description: Application for Authorization under Section 203 of the Federal Power Act and Request for Waivers of GE Albany Global Holdings BV, et al.

Filed Date: 7/7/16.

Accession Number: 20160707-5169.

Comments Due: 5 p.m. ET 7/28/16.

Docket Numbers: EC16-144-000.

Applicants: GE Albany Global Holdings BV, Solar Partners I, LLC, Solar Partners II, LLC, Solar Partners VIII, LLC.

Description: Application for Authorization under Section 203 of the Federal Power Act and Request for Waivers of GE Albany Global Holdings BV, et al.

Filed Date: 7/7/16.

Accession Number: 20160707-5173.

Comments Due: 5 p.m. ET 7/28/16.

Take notice that the Commission received the following electric rate filings:

Docket Numbers: ER12-1650-007.

Applicants: Emera Maine.

Description: Compliance Filing of Emera Maine.

Filed Date: 7/5/16.

Accession Number: 20160705-5217.

Comments Due: 5 p.m. ET 7/26/16.

Docket Numbers: ER16-2142-000.

Applicants: Southwest Power Pool, Inc.

Description: § 205(d) Rate Filing: 3220 Westar, ITC Great Plains & Mid-Kansas Interconnection Agreement to be effective 7/6/2016.

Filed Date: 7/7/16.

Accession Number: 20160707-5080.

Comments Due: 5 p.m. ET 7/28/16.

Docket Numbers: ER16-2143-000.

Applicants: PacifiCorp.

Description: § 205(d) Rate Filing: BPA NITSA (SE Idaho Area) Rev 1 to be effective 7/1/2016.

Filed Date: 7/7/16.

Accession Number: 20160707-5114.

Comments Due: 5 p.m. ET 7/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 07, 2016.
Nathaniel J. Davis, Sr.,
Deputy Secretary.

[FR Doc. 2016-16574 Filed 7-13-16; 8:45 am]

BILLING CODE 6717-01-P